DEPARTMENT OF ENERGY

Notice of Intent To Prepare an Environmental Impact Statement for the Disposal of Greater-Than-Class-C Low-Level Radioactive Waste

AGENCY: Department of Energy.

ACTION: Notice of Intent To Prepare an Environmental Impact Statement.

SUMMARY: The Department of Energy (DOE) announces its intent to prepare an environmental impact statement (EIS) under the National Environmental Policy Act (NEPA) for the disposal of Greater-Than-Class-C low-level radioactive waste (GTCC LLW). GTCC LLW is defined by the Nuclear Regulatory Commission (NRC) in 10 CFR 72.3 as “low-level radioactive waste that exceeds the concentration limits of radionuclides established for Class C waste in [10 CFR 61.55].” GTCC LLW is generated by NRC or Agreement State-licensed activities (hereafter referred to as NRC-licensed activities).

DOE proposes to evaluate alternatives for GTCC LLW disposal: in a geologic repository; in intermediate depth boreholes; and in enhanced near surface facilities. Candidate locations for these disposal facilities would be: the Idaho National Laboratory (INL) in Idaho; the Los Alamos National Laboratory (LANL) and Waste Isolation Pilot Plant (WIPP) in New Mexico; the Nevada Test Site (NTS) and the proposed Yucca Mountain repository in Nevada; the Savannah River Site (SRS) in South Carolina; the Oak Ridge Reservation (ORR) in Tennessee; and the Hanford Site (Hanford) in Washington. DOE will also evaluate disposal at generic commercial facilities in arid and humid locations.

In addition, DOE proposes to include DOE LLW and transuranic waste having characteristics similar to GTCC LLW and which may not have an identified path to disposal (hereafter referred to as GTCC-like waste) in the scope of this EIS. DOE's GTCC-like waste is owned or generated by DOE. The use of the term “GTCC-like” does not have the intent or effect of creating a new classification of radioactive waste.

DOE invites public comment on the scope of this EIS during a 60-day public scoping period. During this period, DOE will hold public scoping meetings to provide the public with an opportunity to comment on the scope of the EIS and to learn more about the proposed action from DOE officials.

DOE issued an Advance Notice of Intent (ANOI), 70 FR 24775 (May 11, 2005), inviting the public to provide preliminary comments on the potential scope of the EIS. This Notice of Intent (NOI) includes a summary of the public comments received on the ANOI.

DATES: The public scoping period starts with the date of publication of this NOI in the Federal Register and will continue until September 21, 2007. DOE will consider all comments received or postmarked by September 21, 2007 in defining the scope of this EIS. Comments received or postmarked after that date will be considered to the extent practicable.

Public scoping meetings will be held to provide the public with an opportunity to present comments on the scope of the EIS and to learn more about the proposed action from DOE officials. The locations, dates, and times for the public scoping meetings are listed in the “Public Scoping” section under SUPPLEMENTARY INFORMATION.

ADDRESSES: Written comments on the scope of the GTCC LLW EIS or requests to speak at one of the public scoping meetings should be sent to: James L. Joyce, Document Manager, Office of Regulatory Compliance (EM-10), U.S. Department of Energy, 1000 Independence Avenue, SW., Washington, DC 20585-0119. Telephone: (301) 903-2151. Fax: 301-903-4303. E-mail: gtcceis@anl.gov.

Written comments on the scope of the GTCC LLW EIS and requests to speak at one of the public scoping meetings can also be submitted through the Web site at http://www.gtcceis.anl.gov.

FOR FURTHER INFORMATION CONTACT: To request further information about the EIS, the public scoping meetings, or to be placed on the EIS distribution list, use any of the methods (fax, telephone, e-mail, or Web site) listed under ADDRESSES above. For general information concerning the DOE NEPA process, contact: Carol Borgstrom, Director, Office of NEPA Policy and Compliance (GC-20), U.S. Department of Energy, 1000 Independence Avenue, SW., Washington, DC 20585-0119.

Telephone: 202-586-4600, or leave a message at 1-800-472-2756.

Fax: 202-586-7031.

This NOI will be available on the internet at http://www.eh.doe.gov/nepa.

Additional information on the GTCC LLW EIS can be found at http://www.gtcceis.anl.gov.

SUPPLEMENTARY INFORMATION:

Background

GTCC LLW is defined by NRC in 10 CFR 72.3 as “low-level radioactive waste that exceeds the concentration limits of radionuclides established for Class C waste in 10 CFR 61.55.” In 10 CFR 61.55, the NRC defines classes of LLW as A, B and C by the concentration of specific short- and long-lived radionuclides, with Class C LLW having the highest radionuclide concentration limits. Consistent with NRC's and DOE's authorities under the Atomic Energy Act of 1954 (as amended), the NRC LLW radioactive waste classification system does not apply to radioactive wastes generated or owned by DOE and disposed of at DOE facilities. However, DOE owns and generates LLW and transuranic radioactive waste with characteristics similar to GTCC LLW and that may not have a path to disposal. For the purposes of this EIS, DOE is referring to this DOE waste as GTCC-like waste (the use of the term “GTCC-like” does not have the intent or effect of creating a new classification of radioactive waste). DOE proposes to evaluate alternatives for the disposal of both GTCC LLW and DOE GTCC-like waste in this EIS.

Section 3(b)(1)(D) of the Low-Level Radioactive Waste Policy Amendments Act of 1985 (LLRWPAA) assigns the responsibility for the disposal of GTCC LLW to the Federal Government. The LLRWPAA specifies that the GTCC LLW covered under Section 3(b)(1)(D) is to be disposed of in a facility licensed and determined to be adequate by the NRC. DOE is the federal agency responsible for the disposal of GTCC LLW. This responsibility was described in a 1987 report to Congress, Recommendations for Management of Greater-Than-Class-C Low-Level Waste (DOE/NE-0077), U.S. Department of Energy, February 1987. The report can be obtained by contacting the Document Manager listed under ADDRESSES above or from the Web site at http://www.gtcceis.anl.gov.

The September 11, 2001, attacks and subsequent threats have heightened concerns that terrorists could gain possession of radiological sealed sources, including GTCC LLW sealed sources, and use them for malevolent purposes. Since 2003, the Government Accountability Office (GAO) has issued three reports on matters related to the security of uncontrolled sealed sources, including the Department's progress in developing a GTCC LLW disposal facility.¹ In addition, the Energy Policy Act of 2005 contains several provisions (e.g., sections 631, 651, and 957) directed at improving the control of sealed sources, including disposal availability.

¹ These GAO reports are entitled Nuclear Security: Federal and State Action Needed to Improve Security of Sealed Radiological Sources, GAO-03804 (August 6, 2004); Nuclear Nonproliferation: DOE Action Needed to Ensure Continued Recovery of Unwanted Radioactive Sources, GAO-03-438 (April 15, 2003); and Nuclear Security: DOE Needs Better Information to Guide Its Expanded Recovery of Sealed Sources, GAO-05-967 (September 2005). These reports can be found at http://www.gao.gov/.

Because of its technical expertise in radiation protection, the U.S. Environmental Protection Agency (EPA) will participate as a cooperating agency in the preparation of this EIS. NRC will be a commenting agency.

Energy Policy Act of 2005 Reporting Requirements

Section 631 of the Energy Policy Act of 2005 requires the Secretary of Energy to: provide Congress with notification of the DOE office with responsibility for completing activities needed to provide for safe disposal of GTCC LLW; submit a report to Congress containing an estimate of the cost and schedule to complete an EIS and record of decision (ROD) for a permanent disposal facility for GTCC LLW; and prior to making a final decision on the disposal alternative or alternatives to be implemented, submit to Congress a report that describes all alternatives considered in the EIS. In meeting these requirements thus far, DOE has named the Office of Environmental Management as the lead organization having responsibility to develop GTCC LLW disposal capability and has submitted a report to Congress dated July 2006 on the estimated cost and proposed schedule to complete the EIS.

Types and Estimated Quantities of GTCC LLW and DOE GTCC-like Waste

GTCC LLW may generally be categorized into the following three types: sealed sources, activated metals, and other miscellaneous waste (e.g., contaminated equipment). Sealed sources are typically small, high-activity radioactive materials encapsulated in closed metal containers. They are used for a variety of purposes including irradiating food and medical products for sterilization, detecting flaws and failures in pipelines and metal welds, calculating moisture content in soil and other materials, and assisting in the diagnosis and treatment of illnesses.

Activated metal wastes are primarily generated in nuclear reactors during facility modifications and decommissioning. There are 104 operating commercial reactors in the United States and an additional 18 that have been closed or decommissioned. The activated metals consist of internal nuclear components that have become radioactive from neutron absorption. These components include portions of the reactor vessel and other stainless steel components near the fuel assemblies.

Other miscellaneous waste includes all GTCC LLW that is not activated metals or sealed sources. This waste includes contaminated equipment, debris, trash, scrap metal and decontamination and decommissioning waste from miscellaneous industrial activities, such as the manufacture of sealed sources and laboratory research.

DOE GTCC-like waste includes some sealed sources owned or generated by DOE activities; activated metals including reflector materials from research reactors as well as other miscellaneous waste owned by DOE or generated by DOE activities that has characteristics similar to GTCC LLW and may not have a path to disposal. Most of the DOE GTCC-like waste consists of transuranic waste ² (a DOE waste category) that may have originated from non-defense activities and therefore may not be authorized for disposal at WIPP under the Waste Isolation Pilot Plant Land Withdrawal Act of 1992 and has no other currently identified path to disposal.

² Transuranic waste is radioactive waste containing more than 100 nanocuries of alpha-emitting transuranic isotopes per gram of waste, with half-lives greater than 20 years, except for: (1) High-level waste; (2) waste that the Secretary of Energy has determined, with the concurrence of the Administrator of EPA, does not need the degree of isolation required by the 40 CFR Part 191 disposal regulations; or (3) waste that the NRC has approved for disposal on a case-by-case basis in accordance with 10 CFR Part 61. PAGE

DOE estimates a total inventory (existing and projected to be generated) of approximately 2,600 cubic meters of GTCC LLW and approximately 3,000 cubic meters of GTCC-like waste. A small percentage of this waste is mixed waste (i.e., radioactive waste that contains a hazardous component subject to the Resource Conservation and Recovery Act). Table 1 shows estimated quantities of GTCC LLW and GTCC-like waste that DOE proposes to analyze and is based on the report entitled Greater-Than-Class C Low-Level Radioactive Waste Inventory Estimates, (DOE, July 2007). This report updates the 1993 inventory estimates contained in the report entitled Greater-Than-Class C Low-Level Radioactive Waste Characterization: Estimated Volumes, Radionuclides, Activities, and Other Characteristics, DOE/LLW-114, Revision 1 (Sept. 1994), which served as the basis for inventories in the ANOI. Copies of both reports are available by contacting the Document Manager listed under ADDRESSES above or at http://www.gtcceis.anl.gov.

Table 1.—Inventory Summary of Estimated Quantities of GTCC LLW and DOE GTCC-like Waste ᵃ
Waste type | In storage | Projected | Total stored and projected: Volume in cubic meters (m³) | Total stored and projected: Activityᵇ MCi | Total stored and projected: Volume m³ | Total stored and projected: Activity ᵇ MCi | Total stored and projected: Volume m ³ | Total stored and projected: Activity (b) MCi
GTCC LLW:
Activated metal | 58 | 3.5 | 810 | 110 | 870 | 110
Sealed sources | (ᶜ) | (ᶜ) | 1,700 | 2.4 | 1,700 | 2.4
Other ᵈ | 76 | 0.0076 | 1.0 | 0.00023 | 77 | 0.0078
Total GTCC LLW | 130 | 3.5 | 2,500 | 110 | 2,600 | 110
DOE GTCC-like waste:
Activated metal | 5.0 | 0.11 | 29 | 0.82 | 34 | 0.93
Sealed sources | 8.7 | 0.013 | 25 | 0.030 | 34 | 0.043
Other ᵈ | 860 | 11 | 2,000 | 19 | 2,900 | 30
Total DOE GTCC-like waste | 870 | 11 | 2,100 | 20 | 3,000 | 31
Total GTCC and GTCC-like waste | 1,000 | 15 | 4,600 | 130 | 5,600 | 140
ᵃ Values have been rounded to two significant figures.
ᵇ Radioactivity values are in millions of curies (MCi).
ᶜ There are sealed sources currently possessed by NRC licensees that may become GTCC LLW when no longer needed by the licensee. The estimated volume and activity of those sources are included in the projected inventory, notwithstanding the lack of information on the current status of the sources (e.g., in use, waste, etc.).
ᵈ Other GTCC LLW and DOE GTCC-like waste includes contaminated equipment, debris, trash, scrap metal and decontamination and decommissioning waste.

Purpose and Need for Action

As shown in Table 1, NRC and Agreement State licensees have generated and continue to generate GTCC LLW for which there is no permitted disposal facility. DOE is responsible for the safe and secure disposal of GTCC LLW covered under Section 3(b)(1)(D) of the LLRWPAA, including determining how and where to dispose of these wastes. In addition, DOE owns or generates certain LLW and transuranic wastes with characteristics similar to GTCC LLW that also may not have an identified path to disposal.

Proposed Action

DOE proposes to construct and operate a new facility or facilities, or use an existing facility, for the disposal of GTCC LLW and GTCC-like waste. DOE would then close the facility or facilities at the end of each facility's operational life. Based on the EIS analysis, DOE expects to make a decision on the method(s) and location(s) for disposing of GTCC LLW and DOE GTCC-like waste. A combination of disposal methods and locations may be appropriate based on the characteristics of the waste and other factors.

Alternatives Proposed for Evaluation

The GTCC EIS will evaluate the range of reasonable alternatives for the disposal of GTCC LLW and GTCC-like waste, together with a no action alternative. The NRC regulations at 10 CFR 61.55(a)(2)(iv) define GTCC LLW as that waste which would require disposal in a geologic repository as defined in 10 CFR Part 60 or 63, unless proposals for an alternative method of disposal are approved by NRC under 10 CFR 61.55(a)(2)(iv). Although NRC regulations state that GTCC LLW is generally not acceptable for near surface-disposal, the NRC recognizes in 10 CFR 61.7(b)(5) that “there may be some instances where waste with concentrations greater than permitted for Class C waste would be acceptable for near-surface disposal with special processing or design.” Therefore, the disposal methods DOE proposes to evaluate in the EIS include deep geologic repository disposal, intermediate depth borehole disposal, and enhanced near-surface disposal.

For deep geologic disposal, DOE intends to analyze disposal at Yucca Mountain in Nevada, a proposed geologic repository to be licensed under 10 CFR Part 63. DOE will also evaluate deep geologic repository disposal at WIPP in New Mexico. Identification of the proposed Yucca Mountain repository for analysis in the EIS is based on the 10 CFR 61.55 regulations, which identify disposal in a geologic repository licensed under 10 CFR Part 60 or 63 as an acceptable method for the disposal of GTCC LLW. Identification of WIPP is based on its characteristics as a geologic repository, although not subject to NRC licensing as a geologic repository under 10 CFR Parts 60 or 63. DOE does not plan to evaluate an additional deep geologic repository facility because siting of another deep geologic repository facility for GTCC LLW and GTCC-like waste is impractical due to the cost, time, and the relatively small volume of GTCC LLW and GTCC-like waste.

DOE also intends to evaluate disposal of GTCC LLW and GTCC-like waste in a new intermediate depth borehole facility and enhanced-near surface facility at existing DOE sites and generic commercial locations. The DOE sites considered for analysis include INL in Idaho, LANL in New Mexico, WIPP vicinity (either within the WIPP Land Withdrawal perimeter that is under the jurisdiction of DOE, or on government property in the vicinity of WIPP), NTS in Nevada, SRS in South Carolina, ORR in Tennessee, and Hanford in Washington. Identification of these sites for potential analysis is based on mission compatibility (these DOE sites currently have waste disposal operations as part of their mission) and physical characteristics of the sites such as hydrogeology and topography.

In addition, DOE intends to evaluate a generic enhanced near surface and intermediate depth borehole commercial disposal facility under both arid and humid conditions in the EIS. In a Request for Information in the FedBizOpps on July 1, 2005, DOE solicited technical capability statements from commercial vendors that may be interested in constructing and operating a GTCC waste disposal facility. Although several commercial vendors expressed an interest, no vendors have provided specific information on disposal locations and methods for analysis in the EIS. Including a generic commercial facility in the EIS would allow DOE to make a programmatic determination regarding disposal of GTCC LLW and GTCC-like waste in such a facility. Should one or more commercial facilities be identified at a later time, DOE would conduct further NEPA review, as appropriate.

DOE intends to evaluate each of the GTCC waste types (i.e., sealed sources, activated metals, and other waste) individually and in combination for each of the disposal alternatives, taking into account the characteristics of the waste types and other considerations (e.g., waste volumes, physical and radiological characteristics, and generation rates). For example, GTCC LLW containing transuranic radionuclides with longer half-lives may require greater isolation or other special measures to protect against potential inadvertent human intrusion, whereas GTCC LLW containing radionuclides with shorter half-lives may require less extensive measures. DOE will also consider volumes and time periods when wastes would be generated and require disposal.

In the GTCC LLW EIS, DOE will describe the statutory and regulatory requirements for each disposal alternative and whether legislation or regulatory modifications may be needed to implement the alternative under consideration. In summary, DOE proposes to evaluate the alternatives listed below:

Alternative 1: No Action—under this alternative, current and future GTCC LLW and GTCC-like waste would be stored at designated locations consistent with ongoing practices, such as storage of GTCC LLW activated metals at nuclear utilities;

Alternative 2: Disposal in a Geologic Repository at WIPP—under this alternative, DOE would dispose of GTCC LLW and GTCC-like waste at WIPP;

Alternative 3: Disposal in a Geologic Repository at Yucca Mountain—under this alternative, DOE would dispose of GTCC LLW and GTCC-like waste at the proposed Yucca Mountain Repository;

Alternative 4: Disposal at a New Enhanced Near-Surface Facility—under this alternative, DOE would dispose of GTCC LLW or GTCC-like waste at a new enhanced near-surface facility at INL, LANL, WIPP vicinity, NTS, SRS, ORR, and Hanford, or a commercial facility should such a facility be identified in the future;

Alternative 5: Disposal at a New Intermediate Depth Borehole Facility—under this alternative, DOE would dispose of GTCC LLW or GTCC-like waste at a new intermediate depth borehole facility at INL, LANL, WIPP vicinity, NTS, SRS, ORR and Hanford, or a commercial facility should such a facility be identified in the future.

Identification of Environmental Issues

DOE proposes to evaluate disposal technologies at various DOE and generic commercial locations for the construction, operation, and closure of a facility or facilities for the disposal of GTCC LLW and GTCC-like waste. DOE proposes to address the issues listed below in the process of considering the potential impacts of the proposed disposal alternatives.

• Potential impacts on air, noise, surface water and groundwater.

• Potential impacts from the shipment of GTCC LLW and GTCC-like waste to the disposal site(s).

• Potential impacts from postulated accidents.

• Potential impacts on human health, including impacts to involved and non-involved site workers and members of the public.

• Potential impacts to historical and cultural artifacts or sites of historical and cultural significance.

• Potential disproportionately high and adverse effects on low income and minority populations (environmental justice).

• Potential Native American concerns.

• Short-term and long-term land use impacts.

• Long-term site suitability, including erosion and seismicity.

• Potential impacts to endangered species.

• Intentional destructive acts.

• Compliance with applicable federal, state, and local requirements.

• Irretrievable and irreversible commitment of resources.

• Cumulative impacts from past, present and reasonably foreseeable actions.

This list is not intended to be inclusive, and we invite interested parties to suggest other issues to be considered, including aspects of the waste inventories presented in Table 1.

Summary of Public Comments on the Advance Notice of Intent

In 2005, DOE issued an ANOI, 70 Fed. Reg. 24775 (May 11, 2005), inviting the public to provide preliminary comments on the potential scope of the EIS. DOE received comments on the ANOI from: the states of Nevada, Oregon and Washington; the Sacramento Municipal Utility District; the New England Coalition; the Sierra Club; the Nuclear Energy Institute; and the Savannah River Site Citizens Advisory Board. The major scoping issues identified in the comments are summarized below, along with DOE's response.

• EIS General Scope: Commenters questioned the need for the EIS, assuming that GTCC LLW would be disposed of in the proposed Yucca Mountain repository for spent nuclear fuel and high-level waste. Some commenters favored the inclusion of DOE's GTCC-like waste along with GTCC LLW generated from NRC-licensed activities in the EIS, while other commenters recommended restricting the scope of the EIS to GTCC LLW analyzed in the Yucca Mountain EIS (DOE/EIS-0250, February 2002) or to waste generated from NRC-licensed activities. Still other commenters questioned the basis for projecting the GTCC LLW volume to 2035 and 2055.

Response: GTCC waste is LLW, not high-level waste or spent nuclear fuel; nevertheless, DOE has identified the proposed Yucca Mountain repository as one of the sites to be analyzed in the EIS for GTCC LLW as a disposal alternative, as well as other appropriate sites, in accordance with 10 CFR Part 61. Under the LLRWPAA, DOE is responsible for disposing of this waste, and because such disposal would be a major federal action, DOE is required by the Council on Environmental Quality regulations that implement NEPA to complete an EIS analyzing the range of reasonable alternatives for this action. The Energy Policy Act of 2005 also requires DOE to take actions related to the preparation of an EIS for GTCC LLW. DOE plans to include its GTCC-like waste that may have no path to disposal, as well as waste generated from NRC or Agreement State licensed activities, and to identify where economies of scale may be achieved in using the same disposal methods and locations.

DOE has identified the estimated GTCC LLW and GTCC-like waste volumes based on the best available data. DOE has changed the projections to 2035 and 2062 to include the 20-year license renewal that commercial reactors may receive plus an additional 6-year “cooling period” before commencing reactor decommissioning activities. Thus GTCC LLW and GTCC-like waste estimates are projected through 2035, except for GTCC LLW activated metals estimates, which are projected through 2062, based on anticipated nuclear reactor decommissioning schedules.

• Waste Disposal Alternatives: Commenters stated that DOE should identify its criteria for including sites considered in the EIS as potential disposal locations and criteria for selecting the technologies and disposal methods to be evaluated.

Response: DOE has identified its basis for the disposal locations and disposal methods proposed for analysis in the EIS under “Alternatives Proposed for Evaluation” in this Notice.

• Waste Inventories: Commenters stated that the inventory data provided in the ANOI should be updated.

Response: DOE has updated the inventory data as shown in Table 1. DOE will incorporate other appropriate inventory data that may become available during preparation of the EIS.

• Resource Areas Proposed for Analysis: Commenters suggested a number of subjects that DOE should include in the EIS impact analyses.

Response: DOE's list of subjects proposed for evaluation in the EIS under “Identification of Environmental Issues” in this NOI responds to those comments.

• Concentration Averaging: Commenters raised questions about DOE's potential use of “concentration averaging” in which, for example, the activity of one component is averaged over the volume or mass of waste to identify applicable waste classification standards.

Response: For the purposes of analysis in the EIS, DOE would use guidance in the Branch Technical Position on Concentration Averaging and Encapsulation, U.S. Nuclear Regulatory Commission, Washington DC, January 1995, to determine when LLW is greater than Class C as defined at according to 10 CFR Part 61.

• Regulatory Requirements: A number of commenters discussed the need to address compliance with regulatory and other legal requirements in the EIS.

Response: The EIS would describe applicable regulatory and other legal requirements and consider the extent to which the alternatives analyzed meet those requirements.

Public Scoping

Interested parties are invited to participate in the public scoping process to provide their comments on the proposed disposal alternatives for analysis in the EIS and the environmental issues to be analyzed. The scoping process is intended to involve all interested agencies (federal, state, county, and local), public interest groups, Native American tribes, businesses, and members of the public. Public scoping meetings will be held at the following locations and times:

• Carlsbad, New Mexico: Pecos River Village Conference Center, Carousel House, 711 Muscatel Avenue, Carlsbad, New Mexico, Monday, August 13, 2007, 6 p.m.-9 p.m.

• Los Alamos, New Mexico: Hilltop House Best Western, La Vista Room, 400 Trinity Drive, Los Alamos, New Mexico, Tuesday, August 14, 2007, 6 p.m.-9 p.m.

• Oak Ridge, Tennessee: DOE Oak Ridge Information Center, 475 Oak Ridge Turnpike, Oak Ridge, Tennessee, Wednesday, August 22, 6 p.m.—9 p.m.

• North Augusta, South Carolina: North Augusta Community Center, 495 Brookside Avenue, North Augusta, South Carolina, Thursday, August 23, 6 p.m.-9 p.m.

• Troutdale, Oregon: Comfort Inn & Suites-Columbia Gorge West, 477 NW Phoenix Drive, Troutdale, Oregon, Monday, August 27, 2007, 6 p.m.-9 p.m.

• Pasco, Washington: Red Lion Hotel, Gold Room, 2525 N 20th Avenue, Pasco, Washington, Tuesday, August 28, 2007, 6 p.m.-9 p.m.

• Idaho Falls, Idaho: Red Lion Hotel On The Falls, Yellowstone/Teton Rooms, 475 River Parkway, Idaho Falls, Idaho, Thursday, August 30, 2007, 6 p.m.-9 p.m.

• Las Vegas, Nevada: Atomic Testing Museum, 755 E. Flamingo Road (Just East of Paradise Road), Las Vegas, Nevada, Tuesday, September 4, 2007, 6 p.m.-9 p.m.

• Washington DC: Hotel Washington, Washington Room, 15th and Pennsylvania Avenue, NW., Washington, DC, Monday, September 10, 1 p.m.-5 p.m.

During the first hour of each scoping meeting, DOE officials will be available for informal discussions with attendees. During the formal part of the meeting, the public will have the opportunity to provide comments orally or in writing. The presiding officer will establish procedures to ensure that everyone who wishes to speak has a chance to do so. Both oral and written comments will be considered and given equal weight.

Issued in Washington, DC on July 17, 2007.
James A. Rispoli,
Assistant Secretary for Environmental Management.

[FR Doc. E7-14139 Filed 7-20-07; 8:45 am]

BILLING CODE 6450-01-P